DEPARTMENT OF HOMELAND SECURITY

Bureau of Customs and Border Protection

Notice of Cancellation of Customs Broker License

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker license are canceled without prejudice.

Name | License # | Issuing port
Rialto, Inc. | 11784 | Seattle.
ADESA Importation Services, Inc. | 21103 | Detroit.
International Service Group, Inc. | 5488 | San Francisco.
Savino del Bene USA (California), Inc. | 10157 | San Francisco.
Savino del Bene (Texas), Inc. | 15919 | Houston.
Savino del Bene International Freight Forwarders, Inc. | 17397 | Boston.
Savino del Bene (Florida), Inc. | 20581 | Miami.
Durad T. Gruelle | 7891 | Chicago.
Durad T. Gruelle | 7863 | New York.
Arthur Spiegel | 5463 | Champlain.

Dated: January 14, 2004.
Jayson P. Ahern,
Assistant Commissioner, Office of Field Operations.

[FR Doc. 04-1630 Filed 1-26-04; 8:45 am]

BILLING CODE 4820-02-P